DEPARTMENT OF THE INTERIOR

Fish and Wildlife Service

Endangered and Threatened Species Permit Applications

AGENCY: Fish and Wildlife Service, Interior.

ACTION: Notice of receipt of applications.

SUMMARY: The following applicants have applied for permits to conduct certain activities with endangered species.

DATES: Written data or comments must be received on or before June 21, 2006.

ADDRESSES: Send written data or comments to the Regional Director, U.S. Fish and Wildlife Service, Ecological Services, 1 Federal Drive, Fort Snelling, Minnesota 55111-4056.

FOR FURTHER INFORMATION CONTACT: Mr. Peter Fasbender, (612) 713-5343.

SUPPLEMENTARY INFORMATION: The following applicants have applied for a scientific research permit to conduct certain activities with endangered species pursuant to section 10(a)(1)(A) of the Endangered Species Act (16 U.S.C. 1531 et seq.). The U.S. Fish and Wildlife Service (“we”) solicits review and comment from local, State, and Federal agencies, and the public on the following permit requests.

Permit Number TE125544

Applicant: Smithsonian Institution, Washington, DC

The applicant requests a permit to take the Kirtland's warbler (Dendroica kirtlandii) throughout Michigan. The scientific research is aimed at enhancement of survival of the species in the wild.

Permit Number TE125549

Applicant: Maartan Vonhof, Kalamazoo, Michigan

The applicant requests a permit to take the Indiana bat (Myotis sodalis) throughout Michigan. The scientific research is aimed at enhancement of survival of the species in the wild.

Permit Number TE125552

Applicant: Michael Burt, Kirksville, Missouri

The applicant requests a permit to take the Indiana bat (Myotis sodalis) throughout Missouri. The scientific research is aimed at enhancement of survival of the species in the wild.

Permit Number TE120231

Applicant: John Timpone, Ballwin, Missouri

The applicant requests a permit to take the Indiana bat (Myotis sodalis) throughout Maryland, Missouri, Ohio, Pennsylvania, and West Virginia. The scientific research is aimed at enhancement of survival of the species in the wild.

Authority: This notice is provided pursuant to section 10(c) of the Endangered Species Act of 1973, as amended (16 U.S.C. 1531, et seq.).

Dated: April 28, 2006.
Wendi Weber,
Assistant Regional Director, Ecological Services, Region 3, Fort Snelling, Minnesota.

[FR Doc. E6-7728 Filed 5-19-06; 8:45 am]

BILLING CODE 4310-55-P